PENSION BENEFIT GUARANTY CORPORATION

Announcement of OMB Approvals of Information Collections

AGENCY: Pension Benefit Guaranty Corporation.

ACTION: Notice of OMB approvals.

SUMMARY: The Office of Management and Budget (OMB) has approved Pension Benefit Guaranty Corporation (PBGC) information collections under the Paperwork Reduction Act. This notice lists the approved information collections and provides their corresponding OMB control number and current expiration date.

FOR FURTHER INFORMATION CONTACT: Monica O'Donnell (odonnell.monica@pbgc.gov), Attorney, Regulatory Affairs Division, Office of the General Counsel, Pension Benefit Guaranty Corporation, 445 12th Street SW, Washington, DC 20024-2101; 202-229-8706. If you are deaf or hard of hearing, or have a speech disability, please dial 7-1-1 to access telecommunications relay services.

SUPPLEMENTARY INFORMATION: The Paperwork Reduction Act of 1995 (PRA) (44 U.S.C. 3501 et seq.) and its implementing regulations require Federal agencies, after receiving OMB approval of information collections, to display OMB control numbers and inform respondents of their legal significance. In accordance with those requirements, PBGC hereby notifies the public that the following information collections, that are contained in PBGC's regulations and do not have a corresponding form, have been approved by OMB.

• OMB Control Number 1212-0065 Disclosure of Information in Distress and PBGC-Initiated Terminations. The expiration date for this information collection contained in 29 CFR parts 4041 and 4042 is February 28, 2027.

• OMB Control Number 1212-0022 Mergers and Transfers Between Multiemployer Plans. The expiration date for this information collection contained in 29 CFR part 4231 is August 31, 2027.

• OMB Control Number 1212-0068 Partitions of Eligible Multiemployer Plans. The expiration date for this information collection contained in 29 CFR part 4233 is December 31, 2027.

• OMB Control Number 1212-0054 Qualified Domestic Relations Orders Submitted to PBGC. The expiration date for this information collection contained in 29 CFR part 4022 is January 31, 2028.

The PRA provides that an agency may not conduct or sponsor, and a person is not required to respond to, a collection of information unless it displays a currently valid OMB control number. Publication of this notice satisfies this requirement with respect to the above-listed information collections, as provided in 5 CFR 1320.5(b)(2)(ii).

Issued in Washington, DC, by:
Hilary Duke,
Assistant General Counsel for Regulatory Affairs, Pension Benefit Guaranty Corporation.

[FR Doc. 2025-01360 Filed 1-17-25; 8:45 am]

BILLING CODE 7709-02-P